DEPARTMENT OF TRANSPORTATION

Coast Guard

33 CFR Part 117

[CGD08-00-033]

RIN 2115-AE47

Drawbridge Operating Regulation; Mississippi River, Iowa and Illinois

AGENCY: Coast Guard, DOT.

ACTION: Temporary deviation.

SUMMARY: The Commander, Eighth Coast Guard District has authorized a temporary deviation from the regulation governing the Rock Island Railroad and Highway Drawbridge, Mile 482.9, Upper Mississippi River at Davenport, Iowa. This deviation allows the drawbridge to remain closed to navigation for 57 days from 7 a.m., January 1, 2001, until 7 a.m., February 26, 2001. This action is required to allow the bridge owner time for preventive maintenance in the winter, before Lock 12 opens March 1, 2001, and when there is less impact on navigation; instead of scheduling maintenance in the summer, when river traffic increases.

DATES: This temporary deviation is effective from 7 a.m., January 1, 2001, until 7 a.m., February 26, 2001.

FOR FUTHER INFORMATION CONTACT: Roger K. Wiebusch, Bridge Administrator, Commander (obr), Eighth Coast Guard District, 1222 Spruce Street, St. Louis, MO 63103-2832, (314) 539-3900, extension 378.

SUPPLEMENTARY INFORMATION: The Rock Island Railroad and Highway Drawbridge provides a vertical clearance of 23.8 feet above normal pool in the closed-to-navigation position. Navigation on the waterway consists primarily of commercial tows and recreational watercraft. This deviation has been coordinated with waterway users who do not object.

This deviation allows the bridge to remain closed-to-navigation from 7 a.m., January 1, 2001, to 7 a.m., February 26, 2001. The drawbridge normally opens on signal.

Dated: December 20, 2000.
Paul J. Pluta,
Rear Admiral, U.S. Coast Guard, Commander, Eighth Coast Guard District.

[FR Doc. 01-548 Filed 1-8-01; 8:45 am]

BILLING CODE 4910-15-P